ENVIRONMENTAL PROTECTION AGENCY

[FRL-6971-2]

Agency Information Collection Activities: Proposed Collection; Comment Request; General Conformity of Federal Actions to State Implementation Plans

AGENCY: Environmental Protection Agency (EPA).

ACTION: Notice.

SUMMARY: In compliance with the Paperwork Reduction Act (44 U.S.C. 3501 et seq.), this notice announces that EPA is planning to submit the following proposed and continuing Information Collection Request (ICR) to the Office of Management and Budget (OMB): General Conformity of Federal Actions to State Implementation Plans, ICR number 1637.05, and OMB Control Number 2060-0279, expiration date: September 30, 2001. Before submitting the ICR to OMB for review and approval, EPA is soliciting comments on specific aspects of the proposed information collection as described below.

DATES: Comments must be submitted on or before June 26, 2001.

ADDRESSES: A copy of the supporting statement may be obtained from the Ozone Policy and Strategies Group, Air Quality Strategies and Standards Division, Office of Air Quality Planning and Standards, MD-15, Research Triangle Park NC 27711 or is available electronically at http://www.epa.gov/ttn/oarpg under “Search OAR P&G,” type in General Conformity.

Comments must be mailed to Annie Nikbakht, Ozone Policy and Strategies Group, Air Quality Strategies and Standards Division, MD-15, Environmental Protection Agency, Research Triangle Park, NC 27711.

FOR FURTHER INFORMATION CONTACT: Annie Nikbakht, telephone: (919) 541-5246, Facsimile: (919) 541-0824; E-Mail: nikbakht.annie@epa.gov

SUPPLEMENTARY INFORMATION: Affected entities: Entities potentially affected by this action are those which take Federal actions, or are subject to Federal actions, and emit pollutants above de minimis levels.

Title: General Conformity of Federal Actions to State Implementation Plans, EPA ICR Number 1637.05 and OMB Control Number 2060-0279, expiration date: September 30, 2001.

Abstract: Before any agency, department, or instrumentality of the Federal government engages in, supports in any way, provides financial assistance for, licenses, permits, approves any activity, that agency has the affirmative responsibility to ensure that such action conforms to the State implementation plan (SIP) for the attainment and maintenance of the national ambient air quality standards (NAAQS). An agency may not conduct or sponsor, and a person is not required to respond to, a collection of information unless it displays a currently valid OMB control number. The OMB control numbers for EPA's regulations are listed in 40 CFR part 9 and 48 CFR chapter 15. Section 176(c) of the Clean Air Act (42 U.S.C. 7401 et seq.) requires that all Federal actions conform with the SIPs to attain and maintain the NAAQS. The EPA's implementing regulations require Federal entities to make a conformity determination for all actions which will impact areas designated as nonattainment or maintenance for the NAAQS and which will result in total direct and indirect emissions in excess of de minimis levels. The Federal entities must collect information on the SIP requirements and the pollution sources to make the conformity determination. Depending on the type of action, the Federal entities either collect the information themselves, hire consultants to collect the information or require applicants/sponsors of the Federal action to provide the information.

The type and quantity of information required will depend on the circumstances surrounding the action. First, the entity must make an applicability determination. If the net total direct and indirect emissions do not exceed de minimis levels established in the regulations or if the action meets certain criteria for an exemption, a conformity determination is not required. Actions requiring conformity determinations vary from straightforward, requiring minimal information, to complex, requiring significant amounts of information. The Federal entity must determine the type and quantity of information on a case-by-case basis. State and local air pollution control agencies are usually requested to provide information to the Federal entities making a conformity determination and are provided opportunities to comment on the proposed determinations. The public is also provided an opportunity to comment on the proposed determinations.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated total annual projected burden and cost for respondents of Federal agencies are 175,000 hours and $8,027,000. The estimated total annual projected burden and cost for respondents providing information to the Federal agencies are 5,040 hours and $223,000. The estimated total annual projected burden and cost for the State and local agencies are 13,600 hours and $377,279. The estimated total annual projected burden and cost for EPA is 26,200 hours and $720,934. The total annual burden is estimated to be 219,840 hours and $9,348,213. For the 3 years covered by this ICR, the total burden is estimated to be 659,520 hours and $28,044,639. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 2, 2001.
Henry C. Thomas, Jr.,
Acting Director, Office of Air Quality Planning and Standards.

[FR Doc. 01-10516 Filed 4-26-01; 8:45 am]

BILLING CODE 6560-50-P